DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by November 30, 2005.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703-358-2281.

FOR FURTHER INFORMATION CONTACT: Division of Management Authority, telephone 703-358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (ADDRESSES above).

PRT-107356

Applicant: Animal Genetics d.b.a. Avian Biotech, Tallahassee, FL.

The applicant requests a permit to import samples from all birds (avian species, taxonomic class Aves), live and dead, in order to conduct diagnostic testing for disease, genetic analysis, or sex determination for the purpose of enhancement of the survival of the species. This notification covers activities to be conducted by the applicant over a five-year period.

PRT-079368

Applicant: Iowa State University, Ames, Iowa.

The applicant requests a permit to import samples and non-viable eggs obtained from wild yellow-headed side-necked turtle (Podocnemis unifilis) for the purpose of scientific research. The applicant is seeking to import additional samples obtained from viable eggs. This notification covers activities to be conducted by the applicant over a five-year period.

PRT-111449

Applicant: Jerry K. Davis, Casper, WY.

The applicant requests a permit to import the sport-hunted trophy of one male bontebok (Damaliscus pygargus pygargus) culled from a captive herd maintained under the management program of the Republic of South Africa, for the purpose of enhancement of the survival of the species.

PRT-064209, 107740, 107741, and 107742

Applicant: Hollywood Animals, Inc., Los Angeles, CA.

The applicant requests permits to export, re-export, re-import four captive-born tigers (Pantera tigris) to worldwide locations for the purpose of enhancement of the species through conservation education. The permit numbers and animals are: PRT-064209, Katrina/Katie; PRT-107740, Kipling; PRT-107741, Kismet; PRT-107742, Shickha. This notification covers activities to be conducted by the applicant over a three-year period and the import of any potential progeny born while overseas.

Dated: October 14, 2005.
Monica Farris,
Senior Permit Biologist, Branch of Permits, Division of Management Authority.

[FR Doc. 05-21634 Filed 10-28-05; 8:45 am]

BILLING CODE 4310-55-P